DEPARTMENT OF TRANSPORTATION

Federal Highway Administration

Notice of Rescission of Finding of No Significant Impact

AGENCY: Federal Highway Administration (FHWA), DOT.

ACTION: Rescind Finding of No Significant Impact (FONSI).

SUMMARY: The FHWA, on behalf of the California Department of Transportation (Caltrans), is issuing this notice to advise the public that it has rescinded the Finding of No Significant Impact (FONSI), which was issued on May 18, 2010, and published on December 19, 2011 in the Federal Register (Federal Register/Vol. 76, No. 243/Monday, December 19, 2011/Notices, [48940]) for a proposed highway project on U.S. Route 101 in Humboldt County. The FONSI was also revalidated on January 24, 2014, and notice of that action was published on February 26, 2014 in the Federal Register (Federal Register/Vol.79, No. 38/Wednesday, February 26, 2014/Notices [108701]).

FOR FURTHER INFORMATION CONTACT: Sandra Rosas, Caltrans Office Chief, North Region Environmental Service (North), P.O. Box 3700, Eureka, CA 95502, 8:00 a.m. to 5:00 p.m., (707) 441-5730; sandra.rosas@dot.ca.gov.

SUPPLEMENTARY INFORMATION: Effective July 1, 2007, FHWA assigned, and Caltrans assumed, environmental responsibilities for this project pursuant to 23 U.S.C. 327. Notice is hereby given that Caltrans has rescinded the FONSI for the following highway project in the State of California: Richardson Grove Operational Improvement Project.

On May 18, 2010, Caltrans advised the public that it had prepared an Environmental Assessment (EA) and a Finding of No Significant Impact (FONSI) for the Richardson Grove Operational Improvement Project to provide Surface Transportation Assistance Act (STAA) access on US Route 101, in compliance with the National Environmental Policy Act (NEPA). Project limit is from 1.1 mile north of the Mendocino County line to 2.2 miles north of the Mendocino County line and would include minor curve realignments, drainage improvements, shoulder widening, cuts and fills, and a retaining wall. After issuing a Supplement to the EA, Caltrans revalidated the FONSI on January 24, 2014. Caltrans withdrew the FONSI on November 17, 2014, due to issuance of the Writ of Mandate by the Humboldt County Superior Court, on October 21, 2014, in the CEQA litigation at Case No. CV110002, directing Caltrans to set aside approval of the project, and requiring additional environmental analysis on the project. A new NEPA finding and any other necessary Federal environmental determinations will be issued consistent with this additional analysis.

Issued on: November 19, 2014.
Gary Sweeten,
North Team Leader, Project Delivery, Federal Highway Administration, Sacramento, California.

[FR Doc. 2014-28027 Filed 11-25-14; 8:45 am]

BILLING CODE P